DEPARTMENT OF AGRICULTURE

Animal and Plant Health Inspection Service

9 CFR Part 78

[Docket No. 02-070-2]

Official Brucellosis Tests

AGENCY: Animal and Plant Health Inspection Service, USDA.

ACTION: Proposed rule; reopening of comment period.

SUMMARY: We are reopening the comment period for our proposed rule that would amend the brucellosis legislation by adding the fluorescence polarization assay to the list of official tests for determining the brucellosis disease status of test-eligible cattle, bison, and swine. This action will allow interested persons additional time to prepare and submit comments.

DATES: We will consider all comments that we receive on or before July 21, 2004.

ADDRESSES: You may submit comments by any of the following methods:

• Postal Mail/Commercial Delivery: Please send four copies of your comment (an original and three copies) to Docket No. 02-070-1, Regulatory Analysis and Development, PPD, APHIS, Station 3C71, 4700 River Road Unit 118, Riverdale, MD 20737-1238. Please state that your comment refers to Docket No. 02-070-1.

• E-mail: Address your comment to regulations@aphis.usda.gov. Your comment must be contained in the body of your message; do not send attached files. Please include your name and address in your message and “Docket No. 02-070-1” on the subject line.

• Agency Web Site: Go to http://www.aphis.usda.gov/ppd/rad/cominst.html for a form you can use to submit an e-mail comment through the APHIS Web site.

• Federal eRulemaking Portal: Go to http://www.regulations.gov and follow the instructions for locating this docket and submitting comments.

Reading Room: You may read any comments that we receive on Docket No. 02-070-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Arnold Gertonson, National Center for Animal Health Programs, VS, APHIS, 2150 Centre Avenue, Bldg. B, MSC 3E20, Fort Collins, CO 80526-8117; (970) 494-7963.

SUPPLEMENTARY INFORMATION: On May 6, 2004, we published in the Federal Register (69 FR 25338-25340, Docket No. 02-070-1) a proposal to amend the brucellosis regulations in 9 CFR part 78 to add the fluorescence polarization assay to the list of official tests for determining the brucellosis disease status of test-eligible cattle, bison, and swine.

Comments on the proposed rule were required to be received on or before June 21, 2004. We are reopening the comment period on Docket No. 02-070-1 for an additional 30 days, ending July 21, 2004. This action will allow interested persons additional time to prepare and submit comments. We will also consider all comments received between June 22, 2004 (the day after the close of the original comment period) and the date of this notice.

Authority: 7 U.S.C. 8301-8317; 7 CFR 2.22, 2.80, and 371.4.

Done in Washington, DC, this 29th day of June 2004.
W. Ron DeHaven,
Administrator, Animal and Plant Health Inspection Service.

[FR Doc. 04-15213 Filed 7-2-04; 8:45 am]

BILLING CODE 3410-34-P